DEPARTMENT OF DEFENSE

Department of the Army; Corps of Engineers

Notice of Intent To Prepare a Programmatic Environmental Impact Statement for the Maintenance and Creation of Emergent Sandbar Habitat on the Upper Missouri River

AGENCY: Department of the Army, U.S. Army Corps of Engineers, DOD.

ACTION: Notice of intent.

SUMMARY: Pursuant to the National Environmental Policy Act (NEPA), the U.S. Army Corps of Engineers (Corps), DoD, Omaha District will prepare a Programmatic Environmental Impact Statement (EIS). The EIS will evaluate potential effects to the natural, physical, and human environment that may result from implementation of a program for the mechanical maintenance and creation of emergent sandbar nesting habitat within the free-flowing reaches of the upper Missouri River from Fort Peck, MT downstream to near Sioux City, IA. The emergent sandbar habitat maintenance and creation program proceeds from a defined regulatory process wherein the Corps formally consulted with the U.S. Fish and Wildlife Service (Service), which provided a Biological Opinion (BiOp) on how the Corps may avoid placing populations of federally-listed shorebirds, the interior least tern (Sterna antillarum) and piping plover (Charadrius melodus), in jeopardy of extinction. Scientific opinion asserts that the areal extent of emergent sandbar habitat directly controls the nesting opportunities and thus the reproductive success for the Missouri River populations of these species. The implementation of this programmatic habitat management action is the Corps' response to, and demonstration of, compliance with the findings of the BiOp stemming from a formal Section 7 consultation with the Service under the Endangered Species Act. Through the findings and recommendations contained within the 2000 BiOp as amended (2003), the Service identified mechanical habitat manipulation as part of a Reasonable and Prudent Alternative (RPA) that the Corps could implement to avoid jeopardy to these two listed species. This Programmatic EIS will tier from the Missouri River Mainstem Reservoir System Master Water Control Manual Final EIS (Master Manual, March 2004), incorporating by reference the general discussions and the affected environment and will evaluate the mechanical maintenance and creation of nesting habitat for the piping plover and interior least tern. Within the Master Manual Final EIS, the Corps acknowledged the need to implement actions to ensure protection of interior least tern and piping plover, but deferred detailed discussions of how these protective measures would be implemented to a future NEPA document. This programmatic EIS is that lower tiered document.

ADDRESSES: Send written comments and suggestions concerning this proposed project to Rebecca J. Latka, CENWO-PM-AE, 106 South 15th Street Omaha, NE 68102, phone: (402) 221-4602, e-mail: rebecca.j.latka@usace.army.mil.

FOR FURTHER INFORMATION CONTACT: Questions about the overall emergent sandbar habitat program, should be directed to Ms. Kelly Crane, Operations Project Manager, Oahe Project Office, 28563 Powerhouse Road, Pierre, SD 57501 (605) 224-5862 x3000; e-mail: kelly.a.crane@usace.army.mil.

SUPPLEMENTARY INFORMATION:

1. Public Participation

a. In August 2003, the Corps issued a public notice initiating a programmatic Environmental Assessment (EA) for this project. At that time, the Corps formally solicited comments from agencies and began to collect comments on what should be evaluated and considered in the EA. The Corps held formal scoping meetings in support of the EA in September 2004, conducting public meetings in Bismarck, ND and Yankton, SD. Based on the responses from agencies and the public, the Corps elevated the level of analysis and public review to a Programmatic EIS. The National Park Service and the U.S. Fish and Wildlife Service have agreed to participate as Cooperating Agencies for the Programmatic EIS.

b. To ensure that all issues related to the proposed program are addressed, the Corps will open an additional comment period to receive recommendations from interested agencies, local and regional stakeholders, and the public. Those providing comments are encouraged to identify areas of concern, recommend issues and potential effects to be addressed in the EIS, and suggest alternatives that should be analyzed. The comment period will extend for 30 days from the date of this Notice's publication in the Federal Register. The Corps anticipates that a draft Programmatic EIS will be available for public and agency review in early 2006. When the Notice of Availability appears in the Federal Register, the Draft Programmatic EIS will be circulated for a 45-day comment period.

c. The Corps invites full public participation to promote open communication and better decision-making. All persons and organizations that have an interest in the program are urged to participate in this NEPA process. Assistance will be provided upon request to anyone having difficulty with understanding how to participate. Public comments are welcome anytime throughout the NEPA process. Formal opportunities for public participation include: (1) During the 30-day public scoping comment period via mail, telephone or e-mail; (2) during review and comment on the Draft Programmatic EIS (approximately early 2006); (3) at public meetings to be held after release of the Draft Programmatic EIS (anticipated early 2006); and (4) during review of the Final Programmatic EIS (anticipated summer 2006). Schedules and locations will be announced in local news media. Interested parties may also request to be included on the mailing list for public distribution of meeting announcements and documents. (See ADDRESSES.)

d. The Programmatic EIS will focus on, but is not limited to, the following environmental issues: Effects on wetlands; water quality; fish and wildlife resources (including threatened and endangered species); air quality; hazardous, toxic, and radioactive waste; aesthetic resources; recreation; Recreational River segments of the National Wild and Scenic Rivers System; and cultural resources (including archaeological sites and tribal lands). The Corps will evaluate the environmental effects (both adverse and beneficial as well as acute and cumulative) of the proposed actions.

2. Background

a. The Missouri River drainage basin is approximately 530,000 square miles in area, occupying approximately one sixth of the continental United States. Originating at Three Forks, Montana, where the Gallatin, Jefferson, and Madison rivers merge, the Missouri flows over 2,500 river miles east and southeast to its confluence with the Mississippi River just above St. Louis, Missouri. The Missouri River Mainstem Reservoir System is comprised of six dam and reservoir projects operated by the Corps and authorized by the Rivers and Harbors Act of 1935 and the Flood Control Act of 1944. To formalize the management and operations of the system, nearly 40 years ago the Corps developed a detailed management plan, the Missouri River Main Stem Reservoir System Master Water Control Manual (“Master Manual”). Within the Master Manual, the Corps identifies the Congressionally authorized interests and sets forth a management plan to best meet the needs for the system. The Master Manual describes the water control plan and the objectives for the integrated regulation of the System by providing guidance for the regulation of the Fort Peck, Garrison, Oahe, Big Bend, Fort Randall, and Gavins Point projects. The habitat manipulations evaluated in this Programmatic EIS are limited in geographic scope to actions within the four free-flowing reaches of the river between the Fort Peck Dam in eastern Montana at river mile 1,771 and river mile 740, near Sioux City, Iowa.

b. Intended to be a living document revised in response to the changing conditions of the Missouri River and those who use the resource, the Master Manual was revised in 1973, 1975, and 1979. In the late 1980s, the Corps began to revise the Master Manual again in response to the first major drought since the reservoir system become operational. The changes to the Master Manual describe physical and management changes of the river that begin saving water in the three biggest reservoirs (Fort Peck, Sakakawea, and Oahe) earlier in a drought than under the previous Water Control Plan and that halt navigation earlier during periods of extreme drought. The Corps believes these changes best meet the overall uses along the main stem and the needs of the people of the basin during periods of drought. Revision of the Master Manual is a process that requires the Corps to consult with other agencies and comply with various other laws, regulations, and procedures. In accordance with the requirements of NEPA, the Corps began the administrative process of evaluating the effects to the human environment from the Master Manual's water management alternatives in an Environmental Impact Statement.

c. Within the context of the ongoing NEPA evaluation for the Master Manual revision, the Corps initiated consultation in 1989 with the Service regarding operation of the Missouri River Main Stem Reservoir System and the Master Manual revision. This consultation was conducted under the provisions of Section 7 of the Endangered Species Act, which requires federal agencies to consult with the Service when the agency's proposed actions may affect the status of species listed as endangered or threatened. For the Missouri River operations by the Corps, the species being addressed in the 1989 consultation were the endangered interior least tern (Sterna antillarum), the threatened northern Great Plains piping plover (Charadrius melodus), and the then-endangered bald eagle (Haliaeetus leucocehpalus). Subsequently, the pallid sturgeon (Scaphirhynchus albus) was listed as endangered in 1990 and is addressed by the Corps and the Service.

d. Throughout the 1990s, the Service and the Corps conducted informal and formal Section 7 consultations, resulting in the issuance of a final BiOp by the Service in 2000. The 2000 BiOp found that the proposed drought management actions in the revised Master Manual would result in jeopardy to the interior least tern, pallid sturgeon, and piping plover, but no jeopardy to the bald eagle.

e. The Service provided the Corps with a Reasonable and Prudent Alternative (RPA) to the current Water Control Plan at that time, which, if implemented, would reverse the jeopardy finding. In November 2003, the Corps reinitiated formal consultation under Section 7. In December 2003, the Service issued an Amended BiOp (USFWS, 2003) that specified a single RPA for the pallid sturgeon, interior least tern, and piping plover. That single RPA allows for the mechanical maintenance and creation of emergent sandbar habitat to avoid jeopardy to the bird species. In March 2004, the Corps published a Final EIS and Record of Decision on the Missouri River Main Stem Reservoir System Master Water Control Manual, and completed the revision of the Master Manual. The Master Manual Final EIS, Record of Decision, and 2003 Amended BiOp can be obtained on line at: http://www.nwd-mr.usace.army.mil/mmanual/mast-man.htm.

3. Purpose and Need for Corps Action

a. The purpose of and need for Corps action results from formal Section 7 consultation and by a defined regulatory process. The Endangered Species Act (ESA) directs the Service to assist other Federal agencies in ensuring that their actions will not jeopardize the continued existence of threatened or endangered species. Section 7(a)(2) of the ESA states, “Each Federal agency shall, in consultation with and with the assistance of the Secretary [of Interior], insure that any action authorized, funded, or carried out by such agency * * * is not likely to jeopardize the continued existence of any endangered species or threatened species or result in the destruction or adverse modification of habitat of such species which is determined by the Secretary, after consultation as appropriate with affected States, to be critical.” This consultation process is referred to as “Section 7 Consultation.”

b. Throughout the formal process of revising the Master Manual (including the Master Manual Draft and Final EIS), the Corps has consulted with the Service, which has expressed its opinion through the 2000 BiOp as amended (2003), as to the actions the Corps might implement to avoid jeopardy to populations of the interior least tern and piping plover. The amended BiOp states that when habitat goals (as measured in the acres of available emergent sandbar for bird nesting) are not met through flow regulation and tern and/or plover fledge ratio goals have not been met for the 3-year running average, other means (e.g., mechanical creation of habitat) will be necessary to ensure the availability of habitat to meet fledge ratio goals.

c. When conditions on the Missouri River do not result in sufficient emergent sandbar habitat, the Corps will mechanically maintain or create emergent sandbar habitat to meet the amended BiOp habitat goals. The need for this action is to ensure that operation of the Missouri River System—as described in the Corps' revised Master Manual and FEIS—will not result in jeopardy to these listed species.

4. Proposed Action and Alternatives

a. The Reasonable and Prudent Alternative included in the 2003 amended BiOp identifies maintenance of fledge ratios (i.e., the number of chicks fledged from each pair of nesting adults) as the key measure to ensure protection of the interior least tern and piping plover. When the running 3-year average fledge ratios fall below thresholds established in the amended BiOp and habitat goals are not met through sediment deposition resulting from natural and regulated flow, the Corps proposes to use mechanical methods to maintain and create emergent sandbar nesting habitat.

b. Alternatives—

(1) Maintain and create emergent sandbar habitat to meet the goals established for 2015 in the amended BiOp (Largest Possible Habitat Manipulation).

River reach (length in river miles) | Acres per river mile (2015) | Total acres
Fort Peck (203.5) | TBD | TBD
Garrison (85.9) | 50 | 4,295
Fort Randall (35) | 20 | 700
Lewis & Clark Lake (34) | 80 | 2,720
Gavins Point (58.1) | 80 | 4,648
Total river miles (416.5) | Total acres | 12,363

(2) Maintain and create emergent sandbar habitat to meet the goals established in the amended BiOp for 2005.

River reach (length in river miles) | Acres per river mile (2005) | Total acres
Fort Peck (203.5) | None | None
Garrison (85.9) | 25 | 2,147.5
Fort Randall (35) | 10 | 350
Lewis & Clark Lake (34) | 40 | 1,360
Gavins Point (58.1) | 40 | 2,324
Total river miles (416.5) | Total acres | 6,168.5

(3) Maintain the acreage of emergent sandbar habitat as measured from actual photo interpretation of the 1998 and 1999 (Fort Peck Reach) aerial photographs. (Acreage determination in progress).

(4) Maintain the acreage of emergent sandbar habitat as measured from actual photo interpretation of the 2005 aerial photos (Maintain Existing Conditions). (Acreage determination in progress).

(5) Implement the minimal number of habitat manipulation actions necessary to maintain fledge ratios above designated thresholds.

(6) Take no action to implement the interior least tern and piping plover aspects of the RPA from the amended BiOp (No Action).

c. The Corps anticipates comments recommending that flow management from the mainstem dams be manipulated to achieve the acreage goals identified in the amended BiOp. Operation of the mainstem dams and the consideration of flow options to manipulate habitat were addressed in the Master Manual EIS and Record-of-Decision published in 2004. This programmatic EIS will focus exclusively on the mechanical maintenance and creation of habitat. In any given year, flow conditions may provide sufficient emergent sandbar habitat to obviate the need for mechanical habitat manipulation assessed under this program. When those conditions occur, the Corps will not manipulate habitat. A number of flow-altering pilot projects are in various stages of planning and assessment under separate NEPA reviews (e.g., Fort Peck Mini-Test). To the extent that these flow manipulations provide additional emergent sandbar habitat, they will reduce the extent of the mechanical habitat manipulation required to meet the amended BiOp goals. Flow changes are also proposed for pallid sturgeon goals targeted for 2006 within the amended BiOp, and are being evaluated through a separate process. Information on this project can be found at: http://www.nwd-mr.usace.army.mil/mmanual/mast-man.htm.

d. Since this EIS is programmatic, specific sites for habitat maintenance or creation will not be selected in the EIS. Rather, the programmatic EIS will outline a framework of site-selection criteria, local coordination, permitting actions, surveys, and additional steps that will be taken before site-specific work is accomplished. These steps will vary by method and by river reach, and the level of site-specific effort will be proportional to the potential for disturbance anticipated.

e. An engineering appendix describing intended construction, implementation, and maintenance procedures for each of the emergent sandbar habitat management methods and practices will be included as an appendix to the Programmatic EIS. The appendix will describe each habitat manipulation element, using diagrams, typical layout plans, pictures, tables, and cross-sections to describe what will be done and how it will be accomplished. Each description will specify process, expectations for outcome, expected productivity, materials, equipment, work force, supervision, inspection, ingress/egress considerations, timing, off-site disposal, fuel and hazardous chemical handling/application, and best management practices to be employed to minimize environmental effects. The engineering appendix will specify additional field data to be collected, studies, and analyses that will be conducted to design the habitat maintenance and creation measures.

Brenda S. Bowen,
Army Federal Register Liaison Officer.

[FR Doc. 05-15986 Filed 8-11-05; 8:45 am]

BILLING CODE 3710-62-P